ENVIRONMENTAL PROTECTION AGENCY

40 CFR Parts 9 and 721

[EPA-HQ-OPPT-2023-0328; FRL-11825-03-OCSPP]

RIN 2070-AB27

Significant New Use Rules on Certain Chemical Substances (23-3.5e); Correction

AGENCY: Environmental Protection Agency (EPA).

ACTION: Final rule; correction.

SUMMARY: EPA is making corrections to a final rule that appeared in the Federal Register of June 13, 2025 (FR Doc. 2025-10812). The final rule established significant new use rules (SNURs) under the Toxic Substances Control Act (TSCA) for chemical substances that were the subject of premanufacture notices (PMNs) and Orders issued by EPA pursuant to TSCA.

DATES: The final rule corrections are effective on August 12, 2025.

ADDRESSES: The docket for this action, identified under docket identification (ID) number EPA-HQ-OPPT-2023-0328, is available online at https://www.regulations.gov or in person at the Office of Pollution Prevention and Toxics Docket (OPPT Docket) in the Environmental Protection Agency Docket Center (EPA/DC). Please review the visitor instructions and additional information about the docket available at https://www.epa.gov/dockets.

FOR FURTHER INFORMATION CONTACT: William Wysong, New Chemicals Division (7405M), Office of Pollution Prevention and Toxics, Environmental Protection Agency, 1200 Pennsylvania Ave. NW, Washington, DC 20460-0001; telephone number: (202) 564-4163; email address: wysong.william@epa.gov.

SUPPLEMENTARY INFORMATION: This action corrects certain regulatory amendments established in the final rule that appears in the Federal Register of June 13, 2025 (90 FR 24977 (FRL-11825-02-OCSPP)) as listed here:

1. The amendment to the table in 40 CFR part 9 is removed because EPA subsequently issued a separate amendment to 40 CFR part 9 that makes this change obsolete and unnecessary. See FR Doc. 2025-11573 (90 FR 27785, June 30, 2025 (FRL-12001-01-OCSPP)).

2. In the table of content, heading and regulatory provision for 40 CFR 721.11839 and 721.11840, the word “ethandiyl” in the name of the chemical substance was misspelled and is corrected to read “ethanediyl”.

3. In the regulatory provision for 40 CFR 721.11839 and 721.11840, the word “floatation” was misspelled and is corrected to read “flotation”.

4. In the regulatory provision for 40 CFR 721.11858, the phrase “and regulated blendstocks (40 CFR part 1090)” is repeated in the second sentence and is being removed to eliminate the redundancy.

5. In the table of content, heading and regulatory provision for 40 CFR 721.11861, the word “hetropolycyclic” in the name of the chemical substance was misspelled and is corrected to read “heteropolycyclic”.

The Agency is not providing a public comment opportunity prior to promulgation of these technical corrections, because such public comment is unnecessary under 5 U.S.C. 553(b)(B) of the Administrative Procedure Act (APA). The corrections established in this action are very minor and non-substantive technical corrections to regulations; thus, the corrections would not substantively alter the regulations established in the final rule in a way that would be of interest to the regulated community or the public. Therefore, pursuant to the APA section 553(b)(B), EPA finds good cause to promulgate these technical corrections without notice and comment.

Corrections

In FR Doc. 2025-10812 appearing at 90 FR 24977 in the Federal Register of Friday, June 13, 2025 (FRL-11825-02-OCSPP), the following corrections are made to the regulatory text:

PART 9—[Corrected]

1. On page 24980, in the third column, amendatory instructions 1 and 2 for 40 CFR part 9 and their accompanying regulatory text are removed.

2. On page 24985, in the third column, in § 721.11839, the section heading and paragraphs (a)(1) and (a)(2)(iii) are corrected to read as follows:

§ 721.11839 Poly[oxy(methyl-1,2-ethanediyl)], .alpha.-(dithiocarboxy)-.omega.-(1-methylethoxy)-, sodium salt (1:1).

(a) * * *

(1) The chemical substance identified as poly[oxy(methyl-1,2-ethanediyl)], .alpha.-(dithiocarboxy)-.omega.-(1-methylethoxy)-, sodium salt (1:1) (PMN P-21-71; CASRN 2304726-53-0) is subject to reporting under this section for the significant new uses described in paragraph (a)(2) of this section.

(2) * * *

(iii) Industrial, commercial, and consumer activities. Requirements as specified in § 721.80(f). It is a significant new use to use the substance other than as a flotation aid in sulfide ore mining at mines with valid permits (State, Federal, or Tribal) for operations and waste handling.

* * * * *

3. On page 24986, in the first column, in § 721.11840, the section heading and paragraphs (a)(1) and (a)(2)(iii) are corrected to read as follows:

§ 721.11840 Poly[oxy(methyl-1,2-ethanediyl)], .alpha.-(dithiocarboxy)-.omega.-butoxy-, sodium salt (1:1).

(a) * * *

(1) The chemical substance identified as poly[oxy(methyl-1,2-ethanediyl)], .alpha.-(dithiocarboxy)-.omega.-butoxy-, sodium salt (1:1) (PMN P-21-72; CASRN 2304726-56-3) is subject to reporting under this section for the significant new uses described in paragraph (a)(2) of this section.

(2) * * *

(iii) Industrial, commercial, and consumer activities. Requirements as specified in § 721.80(f). It is a significant new use to use the substance other than as a flotation aid in sulfide ore mining at mines with valid permits (State, Federal, or Tribal) for operations and waste handling.

* * * * *

4. On page 24992, in the second column, in § 721.11858, paragraph (a)(2)(iii) is corrected to read as follows:

§ 721.11858 Hydrocarbons, C5-10.

(a) * * *

(2) * * *

(iii) Industrial, commercial, and consumer activities. Requirements as specified in § 721.80(f). It is a significant new use to import, process, or use the substance other than as a feedstock for gasoline containing no more than 64% of the substance where the imported gasoline mixture is regulated under applicable EPA regulations for fuels, fuel additives, and regulated blendstocks (40 CFR part 1090) and registration of fuels and fuel additives (40 CFR part 79).

* * * * *

5. On page 24993, in the first column, in § 721.11861, the section heading and paragraph (a)(1) are correct to read as follows:

§ 721.11861 Sulfonium, tricarbocyclic-, salt with [polyhydro-2-alkyl-5-(polyhalo-2-heteroalkyl)-alkano-1,3-heteropolycyclic]alkyl polyhaloaryl ester (1:1) (generic).

(a) * * *

(1) The chemical substance identified generically as sulfonium, tricarbocyclic-, salt with [polyhydro-2-alkyl-5-(polyhalo-2-heteroalkyl)-alkano-1,3-heteropolycyclic]alkyl polyhaloaryl ester (1:1) (PMN P-22-161) is subject to reporting under this section for the significant new uses described in paragraph (a)(2) of this section. The requirements of this section do not apply to quantities of the substance after they have been completely reacted or adhered (during photolithographic processes) onto a semiconductor wafer surface or similar manufactured article used in the production of semiconductor technologies.

* * * * *

Dated: July 16, 2025.
Mary Elissa Reaves,
Director, Office of Pollution Prevention and Toxics.

[FR Doc. 2025-13677 Filed 7-18-25; 8:45 am]

BILLING CODE 6560-50-P